DEPARTMENT OF TRANSPORTATION

Federal Aviation Administration

Policy Statement No. ANM-03-117-58; Flight Data Recording Systems on Transport Category Airplanes

AGENCY: Federal Aviation Administration (FAA), DOT.

ACTION: Notice of proposed policy; request for comments.

SUMMARY: The Federal Aviation Administration (FAA) announces the availability of proposed policy that provides clarification of policy and advisory material associated with certification of flight data recording systems on transport category airplanes.

DATES: Send your comments on or before January 16, 2004.

ADDRESSES: Address your comments to the individual identified under FOR FURTHER INFORMATION CONTACT.

FOR FURTHER INFORMATION CONTACT: Forrest Keller, Federal Aviation Administration, Transport Airplane Directorate, Transport Standards Staff, Safety Management Branch, ANM-117, 1601 Lind Avenue SW., Renton, WA 98055-4056; telephone (425) 227-2790; fax (425) 227-1320; e-mail: forrest.keller@faa.gov.

SUPPLEMENTARY INFORMATION:

Comments Invited

The proposed policy is available on the Internet at the following address: http:///www.airweb.faa.gov/rgl. If you do not have access to the Internet, you can obtain a copy of the policy by contacting the person listed under FOR FURTHER INFORMATION CONTACT.

The FAA invites your comments on this proposed policy. We will accept your commenters, data, views, or arguments by letter, fax, or e-mail. Send your comments to the person listed in FOR FURTHER INFORMATION CONTACT. Mark your comments, “Comments to Policy Statement ANM-03-117-58.”

Use the following format when preparing your comments:

• Organize your comments issue-by-issue.

• For each issue, state what specific change you are requesting to the proposed policy.

• Include justification, reasons, or data for each change you are requesting.

We also welcome comments in support of the proposed policy. We will consider all communications received on or before the closing date for comments. We may change the proposed policy because of the comments received.

Background

This proposed policy:

• Establishes working definitions for the terms “filtered data” and “method of readily retrieving” and describes how these terms apply within a Flight Data Recorder (FDR) system certification program.

• Explains how FDR operational rules in 14 CFR parts 121, 125, and 135 affect certification of FDR systems, as well as the scope of findings to be made on such programs.

• Clarifies the guidance associated with AC 20-141, “Airworthiness and Operational Approval of Digital Flight Data Recorder Systems,” particularly paragraph 7b(1) that deals with “filtered” data.

• Addresses how to document compliance findings associated with the “intended function” requirement of 14 CFR 25.1301 for FDR installations approved as part of type, amended type, or supplemental type certification programs.

Issued in Renton, Washington on December 4, 2003.
Kalene C. Yanamura,
Acting Manager, Transport Airplane Directorate, Aircraft Certification Service.

[FR Doc. 03-31030 Filed 12-16-03; 8:45 am]

BILLING CODE 4910-13-M